DEPARTMENT OF STATE

[Public Notice: 9134]

Exchange Visitor Program—Establishment of a Private Sector U.S.-Mexico Intern Program

ACTION: Notice of Proposed Intern Program.

SUMMARY: The Department of State administers the Exchange Visitor Program pursuant to the Mutual Educational and Cultural Exchange Act of 1961 (Pub. L. 87-256) as amended, 22 U.S.C. 2451, et seq., also known as the Fulbright-Hays Act (the Act). The purpose of the Act is to increase mutual understanding between the people of the United States and the people of other countries, including through educational and cultural exchanges. As set forth in 22 CFR part 62, such exchanges are facilitated, in part, through the designation of public and private entities as sponsors of the Exchange Visitor Program.

The Intern category is one of 15 categories under the Exchange Visitor Program. The purpose of the internship program is to provide foreign nationals who are currently enrolled full-time and pursuing studies at a degree- or certificate-granting post-secondary academic institution or graduated from such an institution no more than 12 months prior to their exchange visitor program begin date a period of work-based learning to allow them to develop practical skills that will enhance their future careers. Bridging the gap between formal education and practical work experience and gaining substantive cross-cultural experience are major goals in educational institutions around the world. By providing training opportunities for current foreign students and recent foreign graduates at formative stages of their development, the U.S. Government will build partnerships, promote mutual understanding, and develop networks for relationships that will last through generations as these foreign nationals move into leadership roles in a broad range of occupational fields in their own societies.

On March 16, 2015, Assistant Secretary of State for Educational and Cultural Affairs Evan Ryan and Under Secretary for North American Affairs for the Government of Mexico Sergio Alcocer signed a Memorandum of Understanding to establish the U.S.-Mexico Intern Program for four years. This new effort is intended to increase professional and educational opportunities for youth in both countries. The U.S.-Mexico Intern Program advances President Obama's 100,000 Strong in the Americas Initiative. It also supports the goals of the Bilateral Forum on Higher Education, Innovation and Research (FOBESSI), announced by President Obama and Mexico's President Enrique Peña.

To support this Program, which will be implemented through the Exchange Visitor Program, the Department of State, Bureau of Educational and Cultural Affairs (ECA), Office of Private Sector Exchange (EC) wishes to collaborate with currently designated intern sponsors as well as other interested entities to provide Mexican citizens with internships and practical training in the occupational categories of Management, Business, Commerce and Finance; Public Administration and Law; Information Media and Communications; and The Sciences, Engineering, Architecture, Mathematics, and Industrial occupations. This type of immersion creates endless benefits for the individual and for understanding between the people of Mexico and the people of the United States.

ECA/EC is prepared to authorize separate designations to current intern sponsors as needed to support the U.S.-Mexico Intern Program. Beginning June 1, the Department intends to provide to currently designated intern sponsors the opportunity to submit designation applications (Form DS-3036) in the occupational fields of Management, Business, Commerce and Finance; Public Administration and Law; Information Media and Communications; and The Sciences, Engineering, Architecture, Mathematics, and Industrial occupations. The designation will be for a period of two years, after which time the sponsor will be required to submit an application for redesignation per 22 CFR 62.7.

Interested entities that do not hold an intern designation under the Exchange Visitor Program should follow the designation process set forth at 22 CFR 62.5, taking care to identify the specified occupational fields outlined in this Notice. Applicants are encouraged to consult the User Manual for Temporary Users of SEVIS (How to Complete and Submit the Form DS-3036, Exchange Visitor Program Application), Version: 6.19, dated March 10, 2015.

Public Comment: Interested persons are invited to submit written views concerning this program, until June 22, 2015. The addresses are:

• Mail: U.S. Department of State, Attn: Ms. Robin Lerner, Office of Private Sector Exchange, SA-5, 2200 C Street NW., Washington, DC 20522-0505.

• Email: [no email address was provided in the original draft].

FOR FURTHER INFORMATION CONTACT: Robin J. Lerner, Deputy Assistant Secretary for Private Sector Exchange, U.S. Department of State, SA-5, Floor 5, 2200 C Street NW., Washington, DC 20522; or email at JExchanges@state.gov.

Robin J. Lerner,
Deputy Assistant Secretary for Private Sector Exchange, Bureau of Educational and Cultural Affairs.

[FR Doc. 2015-12333 Filed 5-20-15; 8:45 am]

BILLING CODE 4710-05-P